DEPARTMENT OF THE INTERIOR

Bureau of Land Management

[OR-095-03-6333-JI: GP03-0005]

Notice of Temporary Closure of Public Lands; Lane County, OR

AGENCY: Bureau of Land Management, Interior.

ACTION: Notice of temporary closure of public lands in Lane County, Oregon.

SUMMARY: Notice is hereby given that approximately 200 acres of certain public lands in Lane County, Oregon are temporarily closed to all public use, with exception to walking, hiking and pedestrian sightseeing. Those uses prohibited from occurring in the area include driving, parking, camping, discharge of firearms, and all equestrian uses. This closure is effective December 1, 2002, through November 30, 2003. The closure is made under the authority of 43 CFR 8364.1.

The public lands affected by this temporary closure include all Federal lands within the City of Eugene Urban Growth Boundary located in Section 29, Township 17 South, Range 4 west of the Willamette Meridian lying east of Greenhill Road, south of Royal Ave., west of Terry street and a line running south from the end of Terry Street to the Southern Pacific Railroad tracks, and north of the Southern Pacific Railroad tracks. Specifically, the lands are identified as follows: Federal lands located in Section 29, Township 17 south, Range 4 west of the Willamette Meridian, Oregon.

The following persons, operating within the scope of their official duties, are exempt from the provisions of this closure order: Bureau, City of Eugene, and Corps of Engineers employees; State, local and Federal law enforcement and fire protection personnel; agents for the Cone wetland mitigation sites; the contractor authorized to construct the Lower Amazon Wetland Restoration Project and its subcontractors; the contractor authorized by the City of Eugene to construct the Fern Ridge Bicycle Path and related recreation facilities and its subcontractors. Access by additional parties may be allowed, but must be approved in advance in writing by the Authorized Officer.

Any person who fails to comply with the provisions of this closure order may be subject to the penalties provided in 43 CFR 8360.0-7, which include a fine not to exceed $1,000 and/or imprisonment not to exceed 12 months.

The public lands temporarily closed to public use under this order will be posted with signs at points of public access.

The purpose of this temporary closure is to provide for public safety, facilitate construction of the Lower Amazon Wetland Restoration Project and Fern Ridge Bicycle Path and related facilities, and protection of property and equipment during the mobilization, construction and de-mobilization phases of the Lower Amazon Wetland Restoration and Fern Ridge Bicycle Path construction projects.

DATES: This closure is effective from December 1, 2002, through November 30, 2003.

ADDRESSES: Copies of the closure order and maps showing the location of the closed lands are available from the Eugene District Office, P.O. Box 10226 (2890 Chad Drive), Eugene, Oregon 97440.

FOR FURTHER INFORMATION CONTACT: Pat Johnston, Wetlands Project Manager, Eugene District Office, at (541) 683-6181.

Dated: October 10, 2003.
Rick Colvin,
Acting Field Manager, Siuslaw Resource Area.

[FR Doc. 02-32063 Filed 12-19-02; 8:45 am]

BILLING CODE 4310-33-P